DEPARTMENT OF TRANSPORTATION

Federal Aviation Administration

Notice of Availability of the Final Supplemental Environmental Assessment for the Proposed Actions Relating to the Grand Canyon National Park

AGENCY: Federal Aviation Administration (FAA), DOT.

ACTION: Notice of availability.

SUMMARY: The Federal Aviation Administration (FAA), in cooperation with the National Park Service (NPS) and the Hualapai Indian Tribe, announces the availability of the Final Supplemental Environmental Assessment (SEA) for the proposed Special Flight Rules in the vicinity of Grand Canyon National Park (GCNP) and Commercial Air Tour Routes (64 FR 37296 and 37304, July 9, 1999).

The Final SEA (FSEA) was prepared pursuant to the National Environmental Policy Act (NEPA) of 1969, as amended, FAA Order 1050.1D, Policies and Procedures for Considering Environmental Impacts, and other applicable environmental laws, and regulations. The FSEA assesses the effects of proposed Federal actions under consideration by the FAA and the Department of the Interior (DOI). These actions are vital for the FAA to assist the NPS in fulfilling its statutory mandate of the National Park Overflights Act, Public Law 100-91, to provide for the substantial restoration of natural quiet in the GCNP by 2008, as called for by Presidential Memorandum dated April 22, 1996, Earth Day Initiative, Parks for Tomorrow. The Undertaking includes those actions for which implementation has been delayed since December 1996, as well as those currently proposed by the FAA. The currently proposed actions include (1) modifying the Special Federal Aviation Regulation Number 50-2; (2) modifying the commercial air tour routes within the Special Flight Rules Area (SFRA); and (3) limiting the commercial air tour operations.

DATES: There is no comment period associated with release of this document. However, any party to this proceeding, having a substantial interest may appeal the order to the Courts of Appeals of the United States or to the United States Court of Appeals for the District of Columbia upon petition, filed within 60 days of issuance of the Final Rules.

ADDRESSES: A copy of the Final SEA is being mailed to all those commenting, either in writing or orally at one of the public meetings and who provided a return address, on the Draft SEA (DSEA). A postcard will be mailed to those individuals that received a copy of the DSEA but did not provide comments indicating how a copy of the FSEA can be obtained. Additional requests for copies of the FSEA should be directed to: Federal Aviation Administration, Air Traffic Airspace Management, Environmental Programs Division, Attention: Tina Hunter, ATA-300.1, 800 Independence Avenue, SW., Washington, DC 20591.

FOR FURTHER INFORMATION CONTACT: Questions concerning this Final SEA or the environmental process followed should be directed to the FAA, Air Traffic Airspace Management, Environmental Programs Division, ATA-300, Attention: Mr. William Marx, via telephone at (202) 267-3075, or in writing to the address above.

SUPPLEMENTARY INFORMATION: The FAA and DOI considered the proposed actions to assist the NPS in achieving its congressional mandate to provide for the substantial restoration of natural quiet at GCNP. Based upon consultation with Federal, State and local agencies and Native American tribal representatives, and in response to public comments, FAA made revisions to the DSEA and prepared the Final SEA. The FAA modified the Preferred Alternative to address socioeconomic concerns of the Hualapai Tribe and the Navajo Nation and concerns expressed by air tour operators and general aviation pilots. The major changes to the Preferred Alternative between the DSEA and Final SEA are as follows:

(1) Commercial air tour operations that transit the SFRA along Blue-2 and Green-4, that operate under a written contract with the Hualapai Tribe, and that have an operations specification authorizing such flights will be excepted from the commercial air tour allocation requirement. The Hualapai Tribe indicated that the Operations Limitation as proposed in the June 1999 Notice of Proposed Rulemaking would significantly adversely impact the Tribe's economic development efforts. The modifications to the Preferred Alternative will avoid negative impacts to the socioeconomic activities of the Hualapai Indian Tribe;

(2) A turnaround has been added in the Zuni Point Corridor in the vicinity of Gunthers Castle in response to comments from the commercial air tour industry that a turn-around in this corridor was necessary to provide the operators with a safe and economic alternative to the Saddle Mountain route;

(3) The Desert View Flight Free Zone (FFZ) has been modified to extend eastward only to the GCNP boundary in response to safety concerns expressed by general aviation pilots and socioeconomic concerns expressed by the Cameron and Gap/Bodaway Chapters of the Navajo Nation. To allow protection for areas containing TCPs identified during Section 106 consultation, FAA left in place the proposed enlargement of the SFRA eastern boundary and the relocation of commercial air tour routes known as Black-2 and Green-3;

(4) The SRFA boundary has been modified on the southeast corner in response to comments from the general aviation community regarding the Sunny Military Operating Area, and the latitude and longitude dimensions within the proposed Final Rule have been corrected;

(5) The description of the future Bright Angel Incentive Corridor has been corrected;

(6) The Toroweap/Shinumo FFZ has been modified to exclude Hualapai reservation lands; and,

(7) The wording in the document has been clarified based on public and agency comments.

The Final Rule for the Modification to the Airspace in the SFRA, the Final Rule for Limitations to Commercial Air Tours and the Notice of Route Availability (with the accompanying chart) are also being released concurrently with this Final SEA. A summary of the background information relative to the Undertaking is contained in each of these documents.

The Supplemental EA

The scoping process for this Supplemental EA consisted of a public comment period for those interested agencies and parties to submit written comments representing the concerns and issues they believed should be addressed. The FAA received a total of 20 written comments. The Draft SEA, published in June 1999 contained a summary of those comments in Appendix G. FAA and DOI held two public hearings during the comment period, the first in Flagstaff, Arizona on August 17, 1999 and the second in Las Vegas, Nevada on August 19, 1999. The FAA received a total of 51 comments on the Draft SEA (both written and verbal).

Information, data, opinions, and comments obtained throughout the process were used in preparing the FSEA. The purpose of this Notice is to inform Federal, State, local and government agencies, and the public of the availability of the Final SEA. To maximize the opportunities for public participation in this environmental process, the FAA has mailed copies of the Final SEA, the two Final Rules, and the Notice of Route Availability and graphic to those individuals and agencies that commented on the Draft SEA. The graphic containing the proposed route changes and airspace modifications is not being published in today's Federal Register due to the detail on the charts.

Issued in Washington, D.C. on March 28, 2000.
William J. Marx,
Manager, Environmental Programs Division, Office of Air Traffic Airspace Management.

[FR Doc. 00-8032 Filed 3-28-00; 4:59 pm]

BILLING CODE 4910-13-M